ENVIRONMENTAL PROTECTION AGENCY

[ER-FRL-6633-9]

Environmental Impact Statements; Notice of Availability

Responsible Agency: Office of Federal Activities, General Information (202) 564-7167 or http://www.epa.gov/compliance/nepa/.

Weekly receipt of Environmental Impact Statements

Filed September 30, 2002 through October 04, 2002

Pursuant to 40 CFR 1506.9.

EIS No. 020407, Draft EIS, AFS, ID, North Kennedy-Cottonwood Stewardship Project, Proposal to Modify the Existing Transportation System and to Manage Vegetation through both Commercial and Non-Commercial methods to Improve the Forest Health, Boise National Forest, Emmett Ranger District, Gem and Valley Counties, ID, Comment Period Ends: November 25, 2002, Contact: Terry Hardy (208) 373-4235.

EIS No. 020408, Draft EIS, EPA, FL, Peace River/Manasota Regional Surface Water Supply Authority's Surface Water Supply, Storage, and Interconnect Project, Construction and Operation, To Increase Finished Water Delivery Capacity of 32.7 Million Gallon Per Day To Meet Year 2015 Potable Water Demand, DeSoto, Manatee, Sarasota and Charlotte Counties, Fl, Comment Period Ends: November 29, 2002, Contact: John Hamilton (404) 562-9617.

EIS No. 020409, Final EIS, NPS, GA, Fort Frederica National Monument General Management Plan, Implementation, Saint Simons Island, Glynn County, GA, Wait Period Ends: November 12, 2002, Contact: Mike Tennent (912) 638-3630.

EIS No. 020410, Final Supplement, FRC, WA, Irene Creek Hydroelectric Project, (FERC No.10100-002) and Anderson Creek Hydroelectric Project (FERC No. 10416-003), Construction and Operation, Issuance of Amended License Applications, Skagit and Whatcom Counties, WA, Wait Period Ends: November 12, 2002, Contact: Alan Mitchnick (202) 502-6074.

EIS No. 020411, Final EIS, BIA, CA, NV, Truckee River Water Quality Settlement Agreement—Federal Water Right Acquisition, Implementation, Truckee River, Placer County, CA and Washoe, Storey and Lyon Counties, NV, Wait Period Ends: November 12, 2002, Contact: Tom Strekal (775) 887-3500.

EIS No. 020412, Final EIS, COE, KS, Tuttle Creek Dam Safety Assurance Program, Proposal for Flood Control, Water Supply, Water Quality, Fish & Wildlife, Recreation and Navigation Support, Big Blue River, Riley and Potawatomie Counties, KS, Wait Period Ends: November 12, 2002, Contact: William B. Empson (816) 983-3556.

EIS No. 020413, Final EIS, FHW, LA, Louisiana 1 Improvements Project, Golden Meadow to Port Fourchon Highway Construction, Funding, U.S. Army COE Section 10 and 404, NPDES and Coast Guard Bridge Permits Issuance, Lafoufche Parish, LA, Wait Period Ends: November 20, 2002, Contact: William C. Farr (225) 757-7615.

EIS No. 020414, Final EIS, AFS, MT, Black Ant Salvage Project, Salvage of 739 Acres of Dead Merchantable Trees from the Lost Fork Fire of 2001, Lewis and Clark National Forest, Meagher Basin County, MT, Wait Period Ends: November 12, 2002, Contact: George Weldon (406) 791-7700.

EIS No. 020415, Final Supplement, COE, FL, Central and Southern Florida Project, Indian River Lagoon—South Feasibility Study, Additional Information, Selection of Plan, Alternative 6, Restoration of the Southern Indian River Lagoon and the St. Lucie Estuary Ecosystem, Martin, St. Lucie, Okeechobee Counties, FL, Wait Period Ends: November 12, 2002, Contact: Laura Mahoney (904) 232-2646.

EIS No. 020416, Final EIS, DOE, ID, Idaho High-Level Waste and Facilities Disposition, Alternatives for Managing High-Level Waste, Mixed Transuranic Waste/Sodium Bearing Waste and Associated Radioactive Wastes Evaluation, Bannock, Bingham, Bonneville, Butte, Madison, Clark, and Jefferson Counties, ID, Wait Period Ends: November 12, 2002, Contact: Richard Kimmel (208) 526-5583.

EIS No. 020417, Draft EIS, FTA, CA, Transbay Terminal/Caltrain Development Downtown Extension/Redevelopment Project, New Multi-Modal Terminal Construction, Peninsula Corridor Service Extension and Establishment of a Redevelopment Plan, Funding, San Francisco, San Mateo and Santa Clara Counties, CA, Comment Period Ends: November 25, 2002, Contact: Jerome Wiggins (415) 744-3115.

EIS No. 020418, Draft EIS, USN, CA, Advanced Amphibious Assault Vehicle (AAAV) Development, Replacement and Establishment, Implementation, Del Mar Basin Area of Marine Base Corps (MCB) Camp Pendelton, San Diego County, CA, Comment Period Ends: November 25, 2002, Contact: Lisa Seneca (619) 532-4744.

Amended Notices

EIS No. 020343, Draft EIS, SFW, CA, Natomas Basin Habitat Conservation Plan, Issuance of Incidental Take Permit and the Adoption of an Implementing Agreement or Agreements, Natomas Basin, Sacramento and Sutter Counties, CA, Comment Period Ends: October 28, 2002, Contact: Vicki Campbell (916) 414-6600. Revision of FR Notice Published on 8/16/2002: CEQ Comment Period Ending 9/30/2002 has been Extended to 10/28/2002.

Dated: October 8, 2002.
Joseph C. Montgomery,
Director, NEPA Compliance Division, Office of Federal Activities.

[FR Doc. 02-26001 Filed 10-10-02; 8:45 am]

BILLING CODE 6560-50-U